ARCHITECTURAL AND TRANSPORTATION BARRIERS COMPLIANCE BOARD

[Docket No. ATBCB-2024-0004]

Agency Information Collection Activities; Submission of Proposed Information Collection; Online Training Request Form for OMB Review

AGENCY: Architectural and Transportation Barriers Compliance Board.

ACTION: 30-Day information collection notice.

SUMMARY: In accordance with the Paperwork Reduction Act of 1995 (PRA), the Architectural and Transportation Barriers Compliance Board (Access Board) has submitted to the Office of Management and Budget (OMB) a request for a new collection of information titled “Technical Assistance Training Request Form”. The purpose of this information collection is to provide a standardized method for members of the public and state and local governments to request training from the Access Board.

DATES: Send comments on or before January 5, 2026.

ADDRESSES: Written comments and recommendations for the proposed information collection should be sent within 30, days of publication of this notice to www.reginfo.gov/public/do/PRAMain. Find this particular information collection by selecting “Architectural and Transportation Barriers Compliance Board” under “Currently under Review—Open for Public Comments” or by using the search function.

FOR FURTHER INFORMATION CONTACT: Attorney Advisor Wendy Marshall, (202) 272-0043, marshall@access-board.gov.

SUPPLEMENTARY INFORMATION:

I. Background

Under the PRA and its implementing regulations (5 CFR part 1320), Federal agencies must obtain approval from OMB for each collection of information they conduct or sponsor (e.g., contractually-required information collection by a third-party). “Collection of information,” within the meaning of the PRA, includes agency requests that pose identical questions to, or impose reporting or recording keeping obligations on, ten or more persons, regardless of whether response to such request is mandatory or voluntary. See 5 CFR 1320.3(c); see also 44 U.S.C. 3502(3). In July 2024, the Access Board published a 60-day notice concerning the proposed new information collection for a technical assistance training request form. We received one comment that did not address the proposed new information collection request.

II. Proposed New Information Collection Request

The Access Board is providing notice that it has requested OMB approval of a new information collection regarding requests for training by members of the public and state and local governments. The Access Board provides training and technical assistance on the guidelines and standards that it promulgates, including design criteria for the built environment, transit vehicles, public rights-of-way, information and communication technology, and medical diagnostic equipment under the Americans with Disabilities Act of 1990, the Architectural Barriers Act of 1968, and other laws. By practice, the Access Board provides in-person and virtual training to organizations across the United States, to include state and local agencies. The Access Board receives email requests for training which currently result in multiple communications with the requestor to determine if the Access Board is able to provide the training requested. The Access Board is proposing to streamline this process for both the requestor and the Board by creating a form for the agency website to allow requestors to submit all necessary information at one time so the Board can review the request and make a determination whether the training can be provided. The online form will be used unless the requestor expresses a preference for another format (e.g., discussion by telephone).

OMB Control Number:

Title: Technical Assistance Training Request Form.

Type of Request: New Collection.

Abstract: The proposed information collection activity enables members of the public, including state and local agencies, to request technical assistance training on the standards and guidelines issued by the Access Board. This collection will streamline the process and decrease wait times for responses to these requests.

Respondents/Affected Public: Individuals and Households; Businesses and Organizations; State, Local or Tribal Government.

Burden Estimates: In the table below (Table 1), the Access Board provides estimates for the annual reporting burden under this proposed information collection. The Access Board does not anticipate incurring any capital or other direct costs associated with this information collection. Nor will there be any costs to respondents, other than their time.

Table 1—Estimated Annual Burden Hours
Type of collection | Number of respondents | Frequency of response (per year) | Average response time (mins.) | Total burden (hours)
Technical Assistance Training Request | 1,000 | 1 | 5 | 84
(Note: Total burden hours per collection rounded to the nearest full hour.)

Request for Comment: The Access Board seeks comment on any aspect of the proposed new information collection, including: (a) whether it is necessary for the performance of the agency's functions; (b) whether the information will have practical utility; (c) the accuracy of the estimated burden; (d) ways for the Access Board to enhance the quality, utility, and clarity of the information collections; and (e) ways that the burden could be minimized without reducing the quality of the collected information.

Christopher Kuczynski,
General Counsel.

[FR Doc. 2025-21884 Filed 12-3-25; 8:45 am]

BILLING CODE 8150-01-P